DEPARTMENT OF DEFENSE

Office of the Secretary

[Docket ID: DOD-2018-OS-0049)

Military Aviation and Installation Assurance Siting Clearinghouse; Notice and Request for Public Comment on Boardman, Oregon, and NAS Patuxent River, Maryland, Geographic Areas of Concern

AGENCY: Under Secretary of Defense for Acquisition and Sustainment, Department of Defense.

ACTION: Notice and request for public comment on the Boardman, Oregon, and NAS Patuxent River, Maryland, Geographic Areas of Concern.

SUMMARY: The Department of Defense (DoD) is publishing this notice to announce that the Boardman, Oregon, and Naval Air Station (NAS) Patuxent River, Maryland, Geographic Areas of Concern (GAOC) maps are now available for review and to request public comment on the proposed maps. The maps are intended to support outreach efforts by DoD to the energy industry.

DATES: The public comment period will end on September 7, 2018.

ADDRESSES: You may submit comments, identified by DOD-2018-OS-0049, to the following:

• Federal eRulemaking Portal: http://www.regulations.gov. Follow the instructions for submitting comments.

• Mail: Department of Defense, Office of the Chief Management Officer, Directorate for Oversight and Compliance, Regulatory and Advisory Committee Division, 4800 Mark Center Drive, Mailbox #24, Suite 08D09, Alexandria, VA 22350-1700.

FOR FURTHER INFORMATION CONTACT: Steven J. Sample, Deputy Director of the Military Aviation and Installation Assurance Siting Clearinghouse, at 703-571-0076 during normal business hours Monday through Friday, from 9:00 a.m. to 5:00 p.m. (EDT) or by email: steven.j.sample4.civ@mail.mil.

SUPPLEMENTARY INFORMATION: Section 183a(d)(2)(B) of title 10, United States Code, provides that, solely for purposes of informing preliminary reviews under section 183a(c)(1) and early outreach efforts under section 183a(c)(5), DoD shall identify distinct geographic areas selected as proposed locations for projects filed, or for projects that are reasonably expected to be filed in the near future, with the Secretary of Transportation pursuant to section 44178 of title 49, United States Code, where the Secretary of Defense can demonstrate such projects could have an adverse impact on military operations and readiness, including military training routes, and categorize the risk of adverse impact in such areas. Section 183a defines adverse impact on military operations and readiness as any impact upon military operations and readiness, including flight operations, research, development, testing, and evaluation and training, that is demonstrable and likely to impair or degrade the ability of the armed forces to perform their warfighting missions. The identification of a GAOC does not equate to a determination that a project in the GAOC would result in an unacceptable risk to the national security of the United States. It only means that such a project would have an adverse impact and requires further review by the Military Aviation and Installation Assurance Siting Clearinghouse.

The Boardman GAOC is identified due to possible effects upon two main DoD military missions. The Naval Weapons Systems Training Facility at Boardman and its associated airspace are the U.S. Navy's primary resource for all airborne electronic attack aircraft air combat maneuver training. This training includes low level aircraft operations. Tall structures, such as wind turbines and electrical transmission lines, constructed under Restricted Airspace (R-5701) and Military Training Routes will prevent the U.S. Navy from fulfilling the training mission. Secondly, the Fossil common air route surveillance radar (CARSR) (a long range radar) in Fossil, Oregon, is a vital resource for the North American Aerospace Defense Command (NORAD). NORAD defends Canada and the United States against air threats, and an accurate “air picture” is essential for NORAD to accomplish its air defense mission. Rotating wind turbine blades can appear as unwanted false targets (clutter) and desensitize the radar, resulting in degraded target acquisition and tracking. Much of the information and data used to establish the GAOC for the Fossil CARSR is not available for public review due to security concerns.

The NAS Patuxent River GAOC is identified due to possible effects upon two DoD military missions. The missions that could be degraded or impaired due to wind turbines are the Advanced Dynamic Aircraft Measurement System (ADAMS) and the Digital Airport Surveillance Radar (DASR), both located at NAS Patuxent River. ADAMS is a national test asset and the Department of Navy's only open-air dynamic radar cross section (RCS) measurement facility supporting all military services as well as other government agencies. ADAMS is used to make precise ground-to-air radar signature measurements during aircraft maneuvers. The DASR is used to facilitate critical safety of flight control instructions for all DoD and civilian aircraft that operate within the confines of the NAS Patuxent River Air Traffic Control (ATC) Area of Responsibility (AoR). ATC services require the ability to use radar to positively identify targets that enter, work within, and depart the AoR to prevent mid-air collision and loss of life. The DASR is also utilized by ATC to monitor air traffic that might attempt to illegally enter the Washington, DC Flight Restricted Zone, thereby posing a significant threat to the national security. Rotating wind turbine blades can appear as unwanted false targets (clutter) and desensitize the radar, resulting in degraded target acquisition and tracking for both the ADAMS and DASR at NAS Patuxent River.

Comments received by the end of the comment period will be considered when making the final findings on the designation of these proposed GAOCs. Any comment, if applying to only one GAOC, should identify that GAOC as the subject.

Maps identifying the Boardman and NAS Patuxent River GAOCs can be viewed in the docket listed above on Regulations.gov.

Dated: August 2, 2018.
Shelly E. Finke,
Alternate OSD Federal Register Liaison Officer, Department of Defense.

[FR Doc. 2018-16886 Filed 8-7-18; 8:45 am]

BILLING CODE 5001-06-P